Proclamation 9180 of September 30, 2014

National Disability Employment Awareness Month, 2014

By the President of the United States of America

A Proclamation

Americans with disabilities lead thriving businesses, teach our children, and serve our Nation; they are innovators and pioneers of technology. In urban centers and rural communities, they carry forward our Nation's legacy of hard work, responsibility, and sacrifice, and their contributions strengthen our economy and remind us that all Americans deserve the opportunity to participate fully in society. During National Disability Employment Awareness Month, we celebrate the Americans living with disabilities, including significant disabilities, who enrich our country, and we reaffirm the simple truth that each of us has something to give to the American story.

This year's theme, “Expect. Employ. Empower.,” reminds us that every American has a right to dignity, respect, and a fair shot at success in the workplace. For too long, workers with disabilities were measured by what people thought they could not do, depriving our Nation and economy of the full talents and contributions of millions of Americans. Nearly 25 years ago, the Americans with Disabilities Act codified the promise of an equal opportunity for everyone who worked hard, and in the years since, Americans with disabilities have reached extraordinary heights. But when employees with disabilities are passed over in the workplace or denied fair accommodations, it limits their potential and threatens our democracy; when disproportionate numbers of Americans with disabilities remain unemployed, more work must be done to achieve the spirit of what is one of the most comprehensive civil rights bills in the history of our country.

My Administration remains committed to tearing down the barriers that prevent Americans with disabilities from living fully independent, integrated lives. We have supported programs that more effectively prepare workers, including those with disabilities, for high-growth, high-demand careers, and we have found new ways to encourage businesses to foster flexible workplaces that are open to diverse skills. We are also working to ensure those living with disabilities have access to the resources that support employment, including accessible housing, transportation, and technology.

Meaningful careers not only provide ladders of opportunity into the middle class, but they also give us a sense of purpose and self-worth. When Americans with disabilities live without the fear of discrimination, they are free to make of their lives what they will. This month, we renew our commitment to cultivate a more inclusive workforce, and we continue our efforts to build a society where everyone who works hard has a chance to get ahead.

NOW, THEREFORE, I, BARACK OBAMA, President of the United States of America, by virtue of the authority vested in me by the Constitution and the laws of the United States, do hereby proclaim October 2014 as National Disability Employment Awareness Month. I urge all Americans to embrace the talents and skills that individuals with disabilities bring to our workplaces and communities and to promote the right to equal employment opportunity for all people.

IN WITNESS WHEREOF, I have hereunto set my hand this thirtieth day of September, in the year of our Lord two thousand fourteen, and of the Independence of the United States of America the two hundred and thirty-ninth.

[FR Doc. 2014-23862

Filed 10-2-14; 11:15 am]

Billing code 3295-F4